DEPARTMENT OF COMMERCE

Foreign-Trade Zones Board

[Docket 42-2009]

Foreign-Trade Zone 41—Milwaukee, WI; Application for Subzone; CNH America, LLC (Agricultural Tractors and Component Parts Manufacturing) Racine, WI

An application has been submitted to the Foreign-Trade Zones Board (the Board) by the Foreign Trade Zone of Wisconsin, Ltd., grantee of FTZ 41, requesting special-purpose subzone status for the agricultural tractor and tractor components manufacturing facilities of CNH America, LLC (CNH), located in Racine, Wisconsin. The application was submitted pursuant to the provisions of the Foreign-Trade Zones Act, as amended (19 U.S.C. 81a-81u), and the regulations of the Board (15 CFR part 400). It was formally filed on October 6, 2009.

The CNH facilities (620 employees) consist of four sites in Racine, Wisconsin: Site 1 (76.18 acres) main manufacturing plant, located at 7000 Durand Avenue; Site 2 (300,750 enclosed square feet) warehouse space, located at 7100 Durand Avenue; Site 3 (38,400 enclosed square feet) warehouse space, located at 7505 Durand Avenue; and; Site 4 (150,000 sq. ft. enclosed square feet) warehouse space, located at 3535 S. Oakes Road. The facilities are used for the manufacturing, warehousing and distribution of agricultural tractors and tractor components, with the capacity to produce up to some 10,600 tractors, 600 cabs, 560 transmissions, 5,280 axles, and 11,250 valves annually. Components and materials sourced from abroad (representing 10% of the value of the finished products) include: Glues; adhesives; anti-knock preparations; articles of plastic—tubes, tape, boxes, bags, stoppers, bottles, buckets, and handles; articles of rubber, incl. those reinforced with textile materials—tubes, conveyor belts, transmission belts, belting tires, floor coverings and mats, hoses, and hose assemblies; gaskets; washers; seals; safety glass; mirrors; pipe fittings; chain; fasteners; hand tools; vises; locks; hinges; pneumatic cylinders; steel tubing; engines; cast iron parts; fuel pumps; pump parts; air compressors; fans; air conditioners; filters; agricultural machinery parts; starter motors; generators; ignition components; horns; windshield wipers; heater parts; loudspeakers; microphones; radios; video displays; switches; circuit breakers; fuses; lighting; lamps; electrical machinery; valves; ball bearings; transmission components; gear boxes; gears; flywheels; pulleys; clutches; gaskets; electric motors; ballasts; power supplies; couplings; spark plugs; distributors; copper wire; ignition wiring; conductors; cabs for tractors; bumpers; seat belts; drive axles; wheels; radiators; mufflers; steering wheels; optical lenses; thermometers; speedometers; voltage testers; and lighters. Duty rates range between free and 8.6%.

FTZ procedures could exempt CNH from customs duty payments on the foreign components used in export production. CNH anticipates that some 30 percent of the plant's shipments will be exported. On its domestic sales, CNH would be able to choose the duty rates during customs entry procedures that apply to the finished products—tractors, cabs, transmissions, axles, and valves (duty rate ranges from free to 4%)—for the foreign inputs noted above. FTZ designation would further allow CNH to realize savings on materials that become scrap/waste during manufacturing. The request indicates that the savings from FTZ procedures would help improve the facilities' international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is December 14, 2009. Rebuttal comments in response to material submitted during the foregoing period may be submitted during the subsequent 15-day period to December 28, 2009.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane_Finver@ita.doc.gov or at (202) 482-1367.

Dated: October 6, 2009.
Elizabeth Whiteman,
Acting Executive Secretary.

[FR Doc. E9-24602 Filed 10-9-09; 8:45 am]

BILLING CODE 3510-DS-P